Title 3—

The President

Memorandum of February 5, 2018

Delegation of Certain Functions and Authorities Under Section 1238 of the National Defense Authorization Act for Fiscal Year 2018

Memorandum for the Secretary of State[,] the Secretary of the Treasury[,] the Secretary of Defense[, and] the Director of National Intelligence

By the authority vested in me as President by the Constitution and the laws of the United States of America, including section 301 of title 3, United States Code, I hereby delegate to the Secretary of Defense, in coordination with the Secretary of State, the Secretary of the Treasury, and the Director of National Intelligence, the functions and authorities vested in the President by section 1238 of the National Defense Authorization Act for Fiscal Year 2018 (Public Law 115-91).

The delegations in this memorandum shall apply to any provisions of any future public law that are the same or substantially the same as the provision referenced in this memorandum.

The Secretary of Defense is authorized and directed to publish this memorandum in the Federal Register.

THE WHITE HOUSE,

Washington, February 5, 2018

[FR Doc. 2018-02603

Filed 2-6-18; 11:15 am]

Billing code 5001-06-P